DEPARTMENT OF ENERGY

Federal Energy Regulatory Commission

[Project No. 11175-025]

Crown Hydro, LLC; Minnesota Notice of Availability of Draft Environmental Assessment

In accordance with the National Environmental Policy Act of 1969 and the Federal Energy Regulatory Commission's (Commission or FERC's) regulations, 18 Code of Federal Regulations (CFR) Part 380 (Order No. 486,52 Federal Register [FR] 47897), the Office of Energy Projects has reviewed Crown Hydro, LLC's application for an amendment to original license for the Crown Mill Hydroelectric Project (FERC Project No. 11175), that would be located on the Mississippi River at the U.S. Army Corps of Engineers' (Corps') lock facility in Minneapolis, Minnesota.

Staff prepared a draft environmental assessment (EA), which analyzes the potential environmental effects of amending the license for the project, and concludes that the amended license, with appropriate environmental protective measures, would not constitute a major federal action that would significantly affect the quality of the human environment.

A copy of the draft EA is available for review at the Commission in the Public Reference Room or may be viewed on the Commission's Web site at www.ferc.gov using the “eLibrary” link. Enter the docket number excluding the last three digits in the docket number field to access the document. For assistance, contact FERC Online Support at FERCOnlineSupport@ferc.gov or toll-free at 1-866-208-3676, or for TTY, 202-502-8659.

You may also register online at www.ferc.gov/docs-filing/esubscription.asp to be notified via email of new filings and issuances related to this or other pending projects. For assistance, contact FERC Online Support.

Any comments should be filed within 30 days from the date of this notice. Comments may be filed electronically via the Internet. See 18 CFR 385.2001(a)(1)(iii) and the instructions on the Commission's Web site at http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and five copies to: Kimberly D. Bose, Secretary, Federal Energy Regulatory Commission, 888 First Street NE., Washington, DC 20426.

For further information, contact Mo Fayyad by telephone at (202) 502-8759, or at mo.fayyad@ferc.gov.

Dated: September 2, 2016.
Kimberly D. Bose,
Secretary.

[FR Doc. 2016-21746 Filed 9-8-16; 8:45 am]

BILLING CODE 6717-01-P